ENVIRONMENTAL PROTECTION AGENCY

[ER-FRL-6661-7]

Environmental Impact Statements; Notice of Availability

Responsible Agency: Office of Federal Activities, General Information (202) 564-7167 or http://www.epa.gov/compliance/nepa/.

Weekly receipt of Environmental Impact Statements filed March 14, 2005, through March 18, 2005, pursuant to 40 CFR 1506.9.

EIS No. 050110, Draft EIS, AFS, CA, Freds Fire Restoration Project, To Reduce Long-Term Fuel Loading for the Purpose of Reducing Future Fire Severity and Resistance to Control, Eldorado National Forest, El Dorado County, CA, Comment Period Ends: May 9, 2005, Contact: Laura Hierholzer (530) 647-5382.

EIS No. 050111, Draft EIS, AFS, CA, Power Fire Restoration Project, To Reduce Long-Term Fuel Loading for the Purpose of Reducing Future Severity and Resistance to Control, Amador Ranger District, Eldorado National Forest, Amador County, CA, Comment Period Ends: March 9, 2005, Contact: Patricia Ferrell (530) 642-5146.

EIS No. 050112, Final EIS, AFS, WY, Woodrock Project, Proposal for Timber Sale, Travel Management and Watershed Restoration, Implementation, Bighorn National Forest, Tongue Ranger District, Sheridan County, WY, Wait Period Ends: April 25, 2005, Contact: Scott Hill (307) 674-2600.

EIS No. 050113, Draft EIS, BLM, NV, Sloan Canyon National Conservation Area, Resource Management Plan, Implementation, Cities of Las Vegas and Henderson, Clark County, NV, Comment Period Ends: June 23, 2005, Contact: Charles Carroll (702) 515-5291.

EIS No. 050114, Draft EIS, AFS, IN, Hoosier National Forest Land and Resource Management Plan, Implementation, Brown, Crawford, Dubois, Jackson, Lawrence, Martin, Monroe, Orange, Perry Counties, IN, Comment Period Ends: June 23, 2005, Contact: Judi Perez (812) 275-5987.

EIS No. 050115, Final Supplement, NRC, AL, Generic EIS—License Renewal of Nuclear Plants, Joseph M. Farley Nuclear Plants, Units 1 and 2, Supplemental 18 to NUREG-1437 (TAC Nos. MCO768 and MCO769), Houston County, AL, Wait Period Ends: April 25, 2005, Contact: Jack Cushing (301) 415-1424.

EIS No. 050116, Draft EIS, COE, Programmatic—Lower Colorado River Basin Study, Provide Flood Damage Reduction and Ecosystem Restoration, Colorado River, TX, Comment Period Ends: May 9, 2005, Contact: Rob Newman (817) 886-1762.

EIS No. 050117, Draft EIS, BLM, NV, Emigrant Mine Project, Develop and Operate an Open Pit Mine, Construct a Waste Rock Disposal Facility, South of Carlin in Elko County, NV, Comment Period Ends: May 24, 2005, Contact: Tom Schmidt (775) 753-0200.

EIS No. 050118, Draft EIS, AFS, MI, Ottawa National Forest, Proposed Land and Resource Management Plan, Forest Plan Revision, Implementation, Baraga, Gogebic, Houghton, Iron, Marquette and Ontonagan Counties, MI, Comment Period Ends: June 23, 2005, Contact: Robert Brenner (906) 932-1330.

EIS No. 050119, Draft EIS, AFS, OR, Timberline Express Project, To Improve the Winter Recreational Opportunities, Implementation, Zigzag Ranger District, Mt. Hood National Forest, Clackamas County, OR, Comment Period Ends: May 9, 2005, Contact: Gary L. Larsen (503) 668-1700.

EIS No. 050120, Draft Supplement, AFS, CO, Baylor Park Blowdown Project, New Information, Salvage and Treat Down and Damaged Timber, To Reduce Impact of Spruce Beetles, Implementation, White River National Forest, Sopris and Rifle Ranger District, Garfield, Mesa, and Pitkin Counties, CO, Comment Period Ends: May 9, 2005, Contact: Jim Thinnes (970) 945-3201.

EIS No. 050121, Draft EIS, AFS, MT, Northeast Yaak Project, Proposed Harvest To Reduce Fuels in Old Growth, Implementation, Kootenai National Forest, Three Rivers Ranger District, Lincoln County, MT, Comment Period Ends: May 9, 2005, Contact: Eric Dickinson (406) 295-4693.

EIS No. 050122, Final EIS, DOE, AZ, Sahuarita-Nogales Transmission Line, Construction and Operation of a 345,000-volt (345 kV) Electric Transmission Line across the United States Border with Mexico, Application for Presidential Permit, Tucson Electric Power (TEP), Nogales, AZ, Wait Period Ends: April 25, 2005, Contact: Dr. Jerry Pell (202) 586-3362.

EIS No. 050123, Final Supplemental, NOA, NC, FL, SC, GA, South Atlantic Shrimp Fishery Management Plan, Amendment 6, Propose To Amend the Bycatch Reduction Device (BRD) Testing Protocol System, South Atlantic Region, Wait Period Ends: April 25, 2005, Contact: Dr. Roy Crabtree (727) 570-5301.

EIS No. 050124, Final Supplement, GSA, MD, U.S. Food and Drug Administration (FDA) Consolidation, Updated and New Information, Constructing a New Eastern Access Road and over Paint Branch, Construct Additional Facilities To Support Expand Program, Relocating the Day Care Center, Federal Research Center at White Oak, Silver Spring, Montgomery County, MD, Wait Period Ends: April 26, 2005, Contact: Shapour Ebadi (301) 595-5156.

EIS No. 050125, Final EIS, NPS, KY, TN, Big South Fork National River and Recreation Area, General Management Plan, Implementation, Resources, Roads and Trails, McCreary, KY and Fentress, Morgan, Pickett and Scott Counties, TN, Wait Period Ends: April 25, 2005, Contact: Reed Detring (423) 569-9778.

EIS No. 050126, Draft EIS, COE, CA, Programmatic—San Luis Obispo Creek Watershed, Waterway Management Plan, Stream Maintenance and Management Plan, City of San Luis Obispo and County of San Luis Obispo, Community of Avila Beach, San Luis Obispo County, Comment Period Ends: Due: July 10, 2005, Contact: Bruce Henderson (805) 585-2145.

EIS No. 050127, Draft EIS, AFS, MI, Hiawatha National Forest, Proposed Land and Resource Management Plan, Forest Plan Revision, Implementation, Alger, Cheboygan, Chippewa, Delta, Luce and Mackinac Counties, MI, Comment Period Ends: June 23, 2005, Contact: Dave Maercklein (906) 786-4062.

Amended Notices

EIS No. 050076, Draft EIS, NOA, ME, RI, CT, Atlantic Large Whale Take Reduction Plan, Proposed Amendments To Implement Specific Gear Modifications for Trap/Pot and Gillnet Fisheries, Broad-Based Gear Modifications, Exclusive Economic Zone (EEZ), ME, CT and RI, Comment Period Ends: May 16, 2005, Contact: Mary Colligan (978) 281-9328.

Revision of Federal Register notice published on February 25, 2005: CEQ Comment Period Ending April 26, 2005, has been extended to May 16, 2005.

EIS No. 050105, Draft EIS, AFS, MI, Huron-Manistee National Forests, Proposed Land and Resource Management Plan, Implementation, Several Counties, WI, Comment Period Ends: June 16, 2005, Contact: Jeff Pullen (231) 775-2421.

Revision of Federal Register notice published on March 18, 2005: Correction to Title and Comment Period from May 2, 2005, to June 16, 2005.

Dated: March 22, 2005.
Robert W. Hargrove,
Director, NEPA Compliance Division, Office of Federal Activities.

[FR Doc. 05-5933 Filed 3-24-05; 8:45 am]

BILLING CODE 6560-50-P